DEPARTMENT OF ENERGY

Federal Energy Regulatory Commission

Combined Notice of Filings #1

Take notice that the Commission received the following electric corporate filings:

Docket Numbers: EC25-58-000.

Applicants: Gibson Solar, LLC, Northern Indiana Public Service Company LLC.

Description: Joint Application for Authorization Under Section 203 of the Federal Power Act of Gibson Solar, LLC, et al.

Filed Date: 2/21/25.

Accession Number: 20250221-5211.

Comment Date: 5 p.m. ET 3/14/25.

Take notice that the Commission received the following exempt wholesale generator filings:

Docket Numbers: EG25-119-000; EG25-120-000; EG25-121-000.

Applicants: Throckmorton Wind, LLC, Carol Renewable Energy, LLC, La Casa Wind, LLC.

Description: La Casa Wind, LLC et al. submit Supplemental Information to Notice of Self-Certification of Exempt Wholesale Generator Status.

Filed Date: 2/24/25.

Accession Number: 20250224-5083.

Comment Date: 5 p.m. ET 3/17/25.

Docket Numbers: EG25-166-000.

Applicants: Dogfish ESS Assets, LLC.

Description: Dogfish ESS Assets, LLC submits Notice of Self-Certification of Exempt Wholesale Generator Status.

Filed Date: 2/24/25.

Accession Number: 20250224-5097.

Comment Date: 5 p.m. ET 3/17/25.

Take notice that the Commission received the following electric rate filings:

Docket Numbers: ER19-1409-006.

Applicants: Birdsboro Power LLC.

Description: Compliance filing: Informational Filing Pursuant to Schedule 2 of the PJM OATT to be effective N/A.

Filed Date: 2/21/25.

Accession Number: 20250221-5182.

Comment Date: 5 p.m. ET 3/14/25.

Docket Numbers: ER24-3163-000.

Applicants: Diversion Wind Energy LLC.

Description: Notice of Cancellation of Market Based Rate Tariff of Diversion Wind Energy LLC.

Filed Date: 12/26/24.

Accession Number: 20241226-5398.

Comment Date: 5 p.m. ET 3/17/25.

Docket Numbers: ER25-1343-001.

Applicants: Alliant Energy Corporate Services, Inc.

Description: Compliance filing: Supplement Filing of AECS to be effective 4/22/2025.

Filed Date: 2/21/25.

Accession Number: 20250221-5189.

Comment Date: 5 p.m. ET 3/14/25.

Docket Numbers: ER25-1360-000.

Applicants: TrailStone Energy Marketing, LLC.

Description: § 205(d) Rate Filing: Notice of Succession of Engelhart CTP Energy Marketing, LLC to be effective 2/3/2025.

Filed Date: 2/21/25.

Accession Number: 20250221-5026.

Comment Date: 5 p.m. ET 3/14/25.

Docket Numbers: ER25-1374-000.

Applicants: PJM Interconnection, L.L.C.

Description: § 205(d) Rate Filing: Original GIA Service Agreement No. 7562; Project Identifier No. AG1-125/AG1-126 to be effective 1/24/2025.

Filed Date: 2/24/25.

Accession Number: 20250224-5002.

Comment Date: 5 p.m. ET 3/17/25.

Docket Numbers: ER25-1375-000.

Applicants: PJM Interconnection, L.L.C.

Description: § 205(d) Rate Filing: Original CSA Service Agreement No. 7563; Project Identifier No. AG1-125 to be effective 1/24/2025.

Filed Date: 2/24/25.

Accession Number: 20250224-5003.

Comment Date: 5 p.m. ET 3/17/25.

Docket Numbers: ER25-1376-000.

Applicants: PJM Interconnection, L.L.C.

Description: § 205(d) Rate Filing: Original GIA Service Agreement No. 7558; Project Identifier No. AG1-554 to be effective 1/24/2025.

Filed Date: 2/24/25.

Accession Number: 20250224-5030.

Comment Date: 5 p.m. ET 3/17/25.

Docket Numbers: ER25-1377-000.

Applicants: PJM Interconnection, L.L.C.

Description: § 205(d) Rate Filing: Original NSA, Service Agreement No. 7585; Project Identifier No. AD2-048 to be effective 4/26/2025.

Filed Date: 2/24/25.

Accession Number: 20250224-5043.

Comment Date: 5 p.m. ET 3/17/25.

Docket Numbers: ER25-1378-000.

Applicants: Duke Energy Carolinas, LLC.

Description: § 205(d) Rate Filing: DEC-Orangeburg Amended and Restated Reimbursement Agmt RS No. 611 to be effective 5/9/2025.

Filed Date: 2/24/25.

Accession Number: 20250224-5075.

Comment Date: 5 p.m. ET 3/17/25.

Docket Numbers: ER25-1379-000.

Applicants: Southwest Power Pool, Inc.

Description: § 205(d) Rate Filing: 2151R2 TPW Petersburg, LLC GIA to be effective 2/11/2025.

Filed Date: 2/24/25.

Accession Number: 20250224-5089.

Comment Date: 5 p.m. ET 3/17/25.

Docket Numbers: ER25-1380-000.

Applicants: PJM Interconnection, L.L.C.

Description: § 205(d) Rate Filing: Original GIA No. 7556; AD2-108/AG1-514 & Cancellation of ISA No. 5450; AD2-108 to be effective 1/24/2025.

Filed Date: 2/24/25.

Accession Number: 20250224-5093.

Comment Date: 5 p.m. ET 3/17/25.

Docket Numbers: ER25-1381-000.

Applicants: PJM Interconnection, L.L.C.

Description: § 205(d) Rate Filing: Original CSA Service Agreement No. 7557; Project Identifier No. AD2-108/AG1-514 to be effective 1/24/2025.

Filed Date: 2/24/25.

Accession Number: 20250224-5095.

Comment Date: 5 p.m. ET 3/17/25.

Docket Numbers: ER25-1382-000.

Applicants: Midcontinent Independent System Operator, Inc.

Description: § 205(d) Rate Filing: 2025-02-24_SA 1712 Termination of NSP-Rugby Wind FCA (G380) to be effective 2/25/2025.

Filed Date: 2/24/25.

Accession Number: 20250224-5098.

Comment Date: 5 p.m. ET 3/17/25.

Docket Numbers: ER25-1383-000.

Applicants: Freeport-McMoRan Copper & Gold Energy Services, LLC.

Description: § 205(d) Rate Filing: Affiliate Sales Authorization to be effective 4/26/2025.

Filed Date: 2/24/25.

Accession Number: 20250224-5113.

Comment Date: 5 p.m. ET 3/17/25.

Docket Numbers: ER25-1384-000.

Applicants: PJM Interconnection, L.L.C.

Description: § 205(d) Rate Filing: Original GIA, Service Agreement No. 7357; AG1-366 to be effective 1/23/2025.

Filed Date: 2/24/25.

Accession Number: 20250224-5118.

Comment Date: 5 p.m. ET 3/17/25.

Docket Numbers: ER25-1385-000.

Applicants: PJM Interconnection, L.L.C.

Description: § 205(d) Rate Filing: Original NSA, Service Agreement No. 7543; AE1-103 to be effective 4/26/2025.

Filed Date: 2/24/25.

Accession Number: 20250224-5130.

Comment Date: 5 p.m. ET 3/17/25.

Docket Numbers: ER25-1386-000.

Applicants: PJM Interconnection, L.L.C.

Description: § 205(d) Rate Filing: Original GIA and CSA, SA Nos. 7538 and 7539; Project Identifier No. AG1-324 to be effective 1/24/2025.

Filed Date: 2/24/25.

Accession Number: 20250224-5131.

Comment Date: 5 p.m. ET 3/17/25.

Docket Numbers: ER25-1387-000.

Applicants: PJM Interconnection, L.L.C.

Description: § 205(d) Rate Filing: Original GIA, 7534; AF2-005/AG1-501 & Cancellation of ISA, SA No. 2836 to be effective 1/23/2025.

Filed Date: 2/24/25.

Accession Number: 20250224-5137.

Comment Date: 5 p.m. ET 3/17/25.

Docket Numbers: ER25-1388-000.

Applicants: PJM Interconnection, L.L.C.

Description: § 205(d) Rate Filing: Original CSA, Service Agreement No. 7555; AF2-005/AG1-501 to be effective 1/24/2025.

Filed Date: 2/24/25.

Accession Number: 20250224-5146.

Comment Date: 5 p.m. ET 3/17/25.

Take notice that the Commission received the following electric securities filings:

Docket Numbers: ES25-33-000.

Applicants: Southwest Power Pool, Inc.

Description: Application Under Section 204 of the Federal Power Act for Authorization to Issue Securities of Southwest Power Pool, Inc.

Filed Date: 2/21/25.

Accession Number: 20250221-5215.

Comment Date: 5 p.m. ET 3/14/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 24, 2025.
Carlos D. Clay,
Deputy Secretary.

[FR Doc. 2025-03283 Filed 2-27-25; 8:45 am]

BILLING CODE 6717-01-P